DEPARTMENT OF ENERGY

Federal Energy Regulatory Commission

Combined Notice of Filings

Take notice that the Commission has received the following Natural Gas Pipeline Rate and Refund Report filings:

Docket Number: PR21-33-000.

Applicants: Enable Oklahoma Intrastate Transmission, LLC.

Description: Tariff filing per 284.123(b),(e)+(g): Enable Revised Fuel Percentages April 1, 2021 through March 31, 2022 to be effective 4/1/2021.

Filed Date: 2/25/2021.

Accession Number: 202102255191.

Comments Due: 5 p.m. ET 3/18/2021.

284.123(g) Protests Due: 5 p.m. ET 4/26/2021.

Docket Number: PR21-34-000.

Applicants: Enable Oklahoma Intrastate Transmission, LLC.

Description: Tariff filing per 284.123(b)(2)+(: EOIT 2021 Petition for Section 311 Rate Approval to be effective 4/1/2021.

Filed Date: 2/26/2021.

Accession Number: 202102265306.

Comments/Protests Due: 5 p.m. ET 3/19/2021.

Docket Number: PR21-35-000.

Applicants: Bay Gas Storage Company, LLC.

Description: Tariff filing per 284.123(b),(e)/: 2021 Annual Adjustment to Company Use Percentage to be effective 3/1/2021.

Filed Date: 2/26/2021.

Accession Number: 202102265309.

Comments/Protests Due: 5 p.m. ET 3/19/2021.

Docket Numbers: RP21-525-000.

Applicants: Midwestern Gas Transmission Company.

Description: Midwestern Gas Transmission Company submits tariff filing per 154.312: 2021 NGA Section 4 Rate Case to be effective 4/1/2021.

Filed Date: 02/26/2021.

Accession Number: 20210226-5027.

Comment Date: 5 p.m. ET 3/10/2021.

Docket Numbers: RP21-526-000.

Applicants: Equitrans, L.P.

Description: Equitrans, L.P. submits tariff filing per 154.203: Refund Report—Hastings Outage September 2020.

Filed Date: 02/26/2021.

Accession Number: 20210226-5045.

Comment Date: 5 p.m. ET 3/10/2021.

Docket Numbers: RP21-527-000.

Applicants: Midship Pipeline Company, LLC.

Description: Midship Pipeline Company, LLC submits tariff filing per 154.403(d)(2): Transportation Retainage Adjustment Effective 4/1/2021 to be effective 4/1/2021.

Filed Date: 02/26/2021.

Accession Number: 20210226-5059.

Comment Date: 5 p.m. ET 3/10/2021.

Docket Numbers: RP21-528-000.

Applicants: Cheniere Creole Trail Pipeline, L.P.

Description: Cheniere Creole Trail Pipeline, L.P. submits tariff filing per 154.403(d)(2): Transportation Retainage Adjustment—Effective April 2021 to be effective 4/1/2021.

Filed Date: 02/26/2021.

Accession Number: 20210226-5063.

Comment Date: 5 p.m. ET 3/10/2021.

Docket Numbers: RP21-529-000.

Applicants: Cheniere Corpus Christi Pipeline, LP.

Description: Cheniere Corpus Christi Pipeline, LP submits tariff filing per 154.204: Electric Power Costs Adjustment Effective April 1, 2021 to be effective 4/1/2021.

Filed Date: 02/26/2021.

Accession Number: 20210226-5073.

Comment Date: 5 p.m. ET 3/10/2021.

Docket Numbers: RP21-530-000.

Applicants: Maritimes & Northeast Pipeline, L.L.C.

Description: Maritimes & Northeast Pipeline, L.L.C. submits tariff filing per 154.204: Negotiated Rate—Northern Utilities 210363 eff 3-1-2021 to be effective 3/1/2021.

Filed Date: 02/26/2021.

Accession Number: 20210226-5087.

Comment Date: 5 p.m. ET 3/10/2021.

Docket Numbers: RP21-531-000.

Applicants: Northern Natural Gas Company.

Description: Northern Natural Gas Company submits tariff filing per 154.204: 20210226 Negotiated Rate to be effective 3/1/2021.

Filed Date: 02/26/2021.

Accession Number: 20210226-5099.

Comment Date: 5 p.m. ET 3/10/2021.

Docket Numbers: RP21-532-000.

Applicants: Colorado Interstate Gas Company, L.L.C.

Description: Colorado Interstate Gas Company, L.L.C. submits tariff filing per 154.403(d)(2): Qtrly LUF & Semi-Annual ML Fuel Filing to be effective 4/1/2021.

Filed Date: 02/26/2021.

Accession Number: 20210226-5100.

Comment Date: 5 p.m. ET 3/10/2021.

Docket Numbers: RP21-533-000.

Applicants: Tallgrass Interstate Gas Transmission, LLC

Description: Tallgrass Interstate Gas Transmission, LLC submits tariff filing per 154.403(d)(2): TIGT 2021-02-26 Fuel and L&U Reimbursement and Power Cost Tracker to be effective 4/1/2021.

Filed Date: 02/26/2021.

Accession Number: 20210226-5101.

Comment Date: 5 p.m. ET 3/10/2021.

Docket Numbers: RP21-534-000.

Applicants: Southern Star Central Gas Pipeline, Inc.

Description: Southern Star Central Gas Pipeline, Inc. submits tariff filing per 154.204: Fuel Filing—Eff. April 1, 2021 to be effective 4/1/2021.

Filed Date: 02/26/2021.

Accession Number: 20210226-5118.

Comment Date: 5 p.m. ET 3/10/2021.

Docket Numbers: RP21-535-000.

Applicants: Kern River Gas Transmission Company.

Description: Kern River Gas Transmission Company submits tariff filing per 154.204: 2021 Daggett Surcharge Filing to be effective 4/1/2021.

Filed Date: 02/26/2021.

Accession Number: 20210226-5141.

Comment Date: 5 p.m. ET 3/10/2021.

Docket Numbers: RP21-536-000.

Applicants: Tennessee Gas Pipeline Company, L.L.C.

Description: Tennessee Gas Pipeline Company, L.L.C. submits tariff filing per 154.204: Volume No. 2—Connecticut Natural SP64028 to be effective 3/1/2021.

Filed Date: 02/26/2021.

Accession Number: 20210226-5158.

Comment Date: 5 p.m. ET 3/10/2021.

Docket Numbers: RP21-537-000.

Applicants: High Island Offshore System, L.L.C.

Description: 2020 Annual Fuel Tracker Filing of High Island Offshore System, L.L.C.

Filed Date: 02/26/2021.

Accession Number: 20210226-5180.

Comment Date: 5 p.m. ET 3/10/2021.

Docket Numbers: RP21-538-000.

Applicants: El Paso Natural Gas Company, L.L.C.

Description: El Paso Natural Gas Company, L.L.C. submits tariff filing per 154.204: Non-Conforming Agreements (SWG) to be effective 4/1/2021.

Filed Date: 02/26/2021.

Accession Number: 20210226-5183.

Comment Date: 5 p.m. ET 3/10/2021.

Docket Numbers: RP21-539-000.

Applicants: TransColorado Gas Transmission Company LLC.

Description: TransColorado Gas Transmission Company LLC submits tariff filing per 154.403(d)(2): FLU Update FIling to be effective 4/1/2021.

Filed Date: 02/26/2021.

Accession Number: 20210226-5214.

Comment Date: 5 p.m. ET 3/10/2021.

Docket Numbers: RP21-540-000.

Applicants: LA Storage, LLC.

Description: LA Storage, LLC submits tariff filing per 154.204: LA Storage 2021 Annual Adjustment of Fuel Retainage Percentage to be effective 4/1/2021.

Filed Date: 02/26/2021.

Accession Number: 20210226-5228.

Comment Date: 5 p.m. ET 3/10/2021.

Docket Numbers: RP21-541-000.

Applicants: Northwest Pipeline LLC.

Description: Northwest Pipeline LLC submits tariff filing per 154.204: North Seattle and South Seattle Annual Charges Update Filing 2021 to be effective 4/1/2021.

Filed Date: 02/26/2021.

Accession Number: 20210226-5229.

Comment Date: 5 p.m. ET 3/10/2021.

Docket Numbers: RP21-542-000

Applicants: Transcontinental Gas Pipe Line Company, LLC.

Description: Transcontinental Gas Pipe Line Company, LLC submits tariff filing per 154.204: Negotiated Rates—Cherokee AGL—Replacement Shippers—Mar 2021 to be effective 3/1/2021.

Filed Date: 02/26/2021.

Accession Number: 20210226-5276.

Comment Date: 5 p.m. ET 3/10/2021.

Docket Numbers: RP21-543-000.

Applicants: Northwest Pipeline LLC.

Description: Northwest Pipeline LLC submits tariff filing per 154.204: New Rate Schedule TPAL & Revise Existing Rate Schedule PAL to be effective 4/1/2021.

Filed Date: 02/26/2021.

Accession Number: 20210226-5280.

Comment Date: 5 p.m. ET 3/10/2021.

Docket Numbers: RP21-544-000.

Applicants: Cove Point LNG, LP.

Description: Cove Point LNG, LP submits tariff filing per 154.403: Cove Point—2021 Annual EPCA to be effective 4/1/2021.

Filed Date: 02/26/2021.

Accession Number: 20210226-5281.

Comment Date: 5 p.m. ET 3/10/2021.

Docket Numbers: RP21-545-000.

Applicants: Cove Point LNG, LP.

Description: Cove Point LNG, LP submits tariff filing per 154.403(d)(2): Cove Point—2021 Annual Fuel Retainage and Request for Waiver to be effective 4/1/2021.

Filed Date: 02/26/2021.

Accession Number: 20210226-5290.

Comment Date: 5 p.m. ET 3/10/2021.

Docket Numbers: RP21-546-000.

Applicants: Hardy Storage Company, LLC.

Description: Hardy Storage Company, LLC submits tariff filing per 154.203: Annual Report on Operational Transactions 2021.

Filed Date: 02/26/2021.

Accession Number: 20210226-5291.

Comment Date: 5 p.m. ET 3/10/2021.

Docket Numbers: RP21-547-000.

Applicants: Crossroads Pipeline Company.

Description: Crossroads Pipeline Company submits tariff filing per 154.203: Annual Report on Operational Transactions 2021.

Filed Date: 02/26/2021.

Accession Number: 20210226-5294.

Comment Date: 5 p.m. ET 3/10/2021.

Docket Numbers: RP21-548-000.

Applicants: Eastern Shore Natural Gas Company.

Description: Eastern Shore Natural Gas Company submits tariff filing per 154.204: Capital Cost Surcharge #1 True-Up to be effective 4/1/2021.

Filed Date: 02/26/2021.

Accession Number: 20210226-5297.

Comment Date: 5 p.m. ET 3/10/2021.

Docket Numbers: RP21-549-000.

Applicants: NEXUS Gas Transmission, LLC.

Description: NEXUS Gas Transmission, LLC submits tariff filing per 154.403(d)(2): 2021 Nexus ASA Filing to be effective 4/1/2021.

Filed Date: 02/26/2021.

Accession Number: 20210226-5305.

Comment Date: 5 p.m. ET 3/10/2021.

Docket Numbers: RP21-550-000.

Applicants: Rockies Express Pipeline LLC.

Description: Rockies Express Pipeline LLC submits tariff filing per 154.204: REX 2021-02-26 Negotiated Rate Agreements to be effective 3/1/2021.

Filed Date: 02/26/2021.

Accession Number: 20210226-5333.

Comment Date: 5 p.m. ET 3/10/2021.

Docket Numbers: RP21-551-000.

Applicants: Southern Star Central Gas Pipeline, Inc.

Description: Southern Star Central Gas Pipeline, Inc. submits tariff filing per 154.204: Vol. 2—Negotiated Rate Agreement—Scout Energy Group III to be effective 3/1/2021.

Filed Date: 02/26/2021.

Accession Number: 20210226-5370.

Comment Date: 5 p.m. ET 3/10/2021.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2021.
Kimberly D. Bose,
Secretary.

[FR Doc. 2021-04590 Filed 3-4-21; 8:45 am]

BILLING CODE 6717-01-P